DEPARTMENT OF LABOR

Employment and Training Administration

Proposed Information Collection Request Submitted for Public Comment and Recommendations; YouthBuild Reporting System

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration (ETA) is soliciting comments concerning the YouthBuild program. A copy of the proposed information collection request (ICR) can be obtained by contacting the office listed below in the addressee section of this notice or at this Web site: http://www.doleta.gov/OMBCN/OMBControlNumber.cfm.

DATES: Written comments must be submitted to the office listed in the addressee section below on or before May 1, 2007.

ADDRESSES: Gregg Weltz, Office of Workforce Investment, Division of Youth Services, U.S. Department of Labor, Room N4459, 200 Constitution Ave., NW., Washington, DC 20210. Phone (202) 693-3527 (This is not a toll-free number), fax (202) 693-3861, or e-mail weltz.greg@dol.gov.

SUPPLEMENTARY INFORMATION:

I. Background

In applying for YouthBuild grants, grantees agree to submit participant data and quarterly aggregate reports for individuals who receive services through the YouthBuild program. The reports will include aggregate data on demographic characteristics, types of services received, placements, outcomes, and follow-up status. Specifically, they summarize data on participants who received education, occupational skill training, leadership development services, and other services essential to preparing at-risk youth for high-wage, high-demand occupations through the YouthBuild program.

This is a request for approval to implement the reporting and recordkeeping requirements of the YouthBuild program through an ETA-provided, Web-based Management Information System (MIS). Three outcome measures will be used to measure success in the YouthBuild grants: Placement in employment or education, attainment of a degree or certificate, and literacy and numeracy gains. These conform to the common performance measures implemented across Federal employment and job training programs as of July 1, 2005. By standardizing the reporting and performance requirements of different programs, the common measures streamline reporting and give Federal policymakers and ETA the ability to compare across programs the core goals of the youth workforce system: How many youth found jobs or continued on to post-secondary education; how many youth earned a high school diploma or GED or other industry recognized credential; and how much progress did they make in terms of their basic skill levels in literacy and numeracy. Although the common measures are an integral part of ETA's performance accountability system, these measures provide only part of the information necessary to effectively oversee the workforce investment system. ETA will also collect additional data from YouthBuild grantees on program activities, participants, and outcomes that are necessary for program management and to convey full and accurate information on the performance of the YouthBuild program.

This request establishes a reporting and record-keeping system for a level of information collection that is necessary to comply with Equal Opportunity requirements, hold YouthBuild grantees appropriately accountable for the Federal funds they receive, including common performance measures, and allow the Department to fulfill its oversight and management responsibilities.

II. Review Focus

The Department of Labor is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: New.

Agency: Employment and Training Administration.

Title: YouthBuild Reporting System.

OMB Number: 1205-0NEW.

Agency Number(s): ETA-9136.

Affected Public: YouthBuild Grantees.

Total Respondents: 85.

Estimated Total Burden Hours: 16,280.

Form/activity | Total respondents | Frequency | Total annual response | Average time per response (hours) | Total annual burden hours
Participant Data Collection | 85 | Continual | 3,000 | 1.8 | 5,400
Quarterly narrative progress report | 85 | Quarterly | 340 | 16 | 5,440
Quarterly performance report | 85 | Quarterly | 340 | 16 | 5,440
Totals | 85 |  | 3,680 |  | 16,280

Total Burden Cost (capital/startup): 0.

Total Burden Cost (operating/maintaining): 0.

Comments submitted in response to this comment request will be summarized and/or included in the request for Office of Management and Budget approval of the information collection request; they will also become a matter of public record.

Dated: February 26, 2007.
Emily Stover DeRocco,
Assistant Secretary, Employment and Training Administration.

[FR Doc. E7-3622 Filed 3-1-07; 8:45 am]

BILLING CODE 4510-30-P